DEPARTMENT OF TRANSPORTATION

National Highway Traffic Safety Administration

49 CFR Part 571

[Docket No. NHTSA-2009-0151]

RIN 2127-AK44

Federal Motor Vehicle Safety Standards; Air Brake Systems

AGENCY: National Highway Traffic Safety Administration (NHTSA), DOT.

ACTION: Final rule.

SUMMARY: This document makes permanent an existing requirement that trailers with antilock brake systems (ABS) be equipped with an external malfunction indicator lamp. The indicator lamp requirement, which is included in the Federal motor vehicle safety standard that governs air-braked vehicles, was originally scheduled to sunset on March 1, 2009, but had previously been extended to September 1, 2009. The agency had established a sunset date for this requirement in light of the increasing numbers of post-2001 tractors which have an in-cab trailer ABS malfunction lamp, making the external trailer lamp redundant. We are making the requirement permanent in light of additional safety purposes served by the external lamp, including: it not only warns the driver of a malfunctioning trailer ABS, but, unlike the in-cab lamps, indicates which trailer in double and trailer applications has a malfunction, and it assists Federal and State roadside inspectors and maintenance personnel in identifying a malfunctioning trailer ABS. This rulemaking was conducted in response to petitions from the Commercial Vehicle Safety Alliance.

DATES: Effective Date: This rule is effective August 31, 2009. Petitions: Petitions for reconsideration must be received by October 9, 2009.

ADDRESSES: If you wish to petition for reconsideration of this rule, you should refer in your petition to the docket number of this document and submit your petition to: Administrator, National Highway Traffic Safety Administration, 1200 New Jersey Avenue, SE., West Building, Washington, DC, 20590.

The petition will be placed in the docket. Anyone is able to search the electronic form of all documents received into any of our dockets by the name of the individual submitting the document (or signing the document, if submitted on behalf of an association, business, labor union, etc.). You may review DOT's complete Privacy Act Statement in the Federal Register published on April 11, 2000 (Volume 65, Number 70; Pages 19477-78) or you may visit http://www.dot.gov/privacy.html.

FOR FURTHER INFORMATION CONTACT: For non-legal issues, you may call Mr. George Soodoo, Office of Crash Avoidance Standards (Phone: 202-366-4931; FAX: 202-366-7002). For legal issues, you may call Mr. Ari Scott, Office of the Chief Counsel (Phone: 202-366-2992; FAX: 202-366-3820). You may send mail to these officials at: National Highway Traffic Safety Administration, 1200 New Jersey Avenue, SE., Washington, DC 20590.

SUPPLEMENTARY INFORMATION:

Table of Contents

I. Background

II. Comments

III. Response to Comments and Agency Decision

IV. Rulemaking Analyses and Notices

I. Background

The final rule requiring antilock brake systems (ABS) on truck tractors, other air-braked heavy vehicles including trailers, and hydraulic-braked trucks was published in the Federal Register (60 FR 13216) on March 10, 1995. As amended by that final rule, FMVSS No. 121, Air Brake Systems, required two separate in-cab ABS malfunction indicator lamps for each truck tractor, one for the tractor's ABS (effective March 1, 1997) and the other for the trailer's ABS (effective March 1, 2001). The final rule also required air-braked trailers to be equipped with an externally mounted ABS malfunction lamp (effective March 1, 1998) so that the driver of a non-ABS equipped tractor or an ABS-equipped tractor manufactured prior to March 1, 2001, towing an ABS-equipped trailer would be alerted in the event of a malfunction in the trailer ABS.

The requirement for the trailer-mounted ABS malfunction indicator lamp was originally scheduled to expire on March 1, 2009. The National Highway Traffic Safety Administration (NHTSA) established this sunset date, based on the assumption that, after this eight-year period, many of the pre-2001 tractors without the dedicated trailer ABS malfunction indicator lamp would no longer be in long-haul service. The agency based its decision on the belief that the typical tractor life was five to seven years, and therefore decided on an eight-year period for the external ABS malfunction indicator lamp requirement. We further stated our belief that there would be no need for a redundant ABS malfunction lamp mounted on the trailer after the vast majority of tractors were equipped with an in-cab ABS malfunction indicator lamp for the trailer.

Before the trailer-mounted ABS malfunction indicator lamp requirement expired, NHTSA received two petitions from the Commercial Vehicle Safety Alliance (CVSA). CVSA is an international not-for-profit organization comprised of local, State, provincial, territorial and Federal motor carrier safety officials and industry representatives from the United States, Canada, and Mexico.

On October 22, 2007, CVSA petitioned NHTSA to make the trailer-mounted external antilock malfunction indicator lamp permanent instead of allowing it to expire. CVSA included in its petition suggested regulatory text along with its rationale for why the extension should be permanent. On October 15, 2008, CVSA again petitioned NHTSA to amend FMVSS No. 121, requesting that the agency issue a stay of the sunset date of March 1, 2009 for the external ABS warning lamp. CVSA stated that a stay would prevent a time gap in the regulation, while NHTSA continued to evaluate CVSA's 2007 petition. CVSA stated that the vehicle inspection process has already been complicated by the phased-in ABS and ABS malfunction indicator lamp requirements, and a time gap would further complicate the inspection process and cause additional confusion for drivers and maintenance personnel.

On March 3, 2009, the agency concurrently published an interim final rule extending the sunset date for the requirement by six months, to September 1, 2009 (74 FR 9173), and a notice of proposed rulemaking (NPRM) to extend the requirement to March 1, 2011 (74 FR 9202). In the latter notice, the agency explained that it expected to be able to fully analyze the issues raised by the CVSA petitions and further address them prior to March 1, 2011. The agency also indicated that if it was able to fully resolve the outstanding issues it could make the requirement permanent in a final rule based on the NPRM.

The rationale put forth by CVSA, in its 2007 petition, for making the requirement permanent included four points. The first point was that there were still expected to be many pre-2001 tractors in use when the malfunction indicator lamp requirement was set to expire (at the time, March 1, 2009). These tractors do not have the in-cab trailer ABS malfunction indicator lamp that was perceived to render the external lamp redundant. Second, CVSA argued that for double and triple trailer applications, it will not be possible to determine, from an in-cab lamp alone, which trailer ABS is malfunctioning without external lamps. Third, CVSA stated that many trailer repair shops rely on the external lamp to quickly diagnose the operational status of the trailer ABS without having to couple a post-2001 tractor to the trailer. With an external indicator lamp, any age tractor can be used, making inspection significantly easier. Fourth, the petition argued that without the external lamp, the signal from the in-cab lamp may be confusing, as it may indicate either a malfunctioning in-cab bulb, a functioning pre-1998 trailer (with no ABS), a problem with the communication circuit between the trailer and tractor, or a malfunctioning ABS. The external lamp helps to diagnose the situation further.

II. Summary of Comments

Overview

NHTSA received a number of comments in response to the two March 3, 2009 Federal Register notices. All commenters addressing the issue supported the extension provided in the interim final rule and some further extension, with varying time periods for the further extension.

The American Trucking Associations (ATA), a trade association representing trucking companies, supported extending the trailer external lamp requirement until March 1, 2011, the date proposed in the NPRM, but argued against making the requirement permanent. The Truck Trailer Manufacturers Association (TTMA) supported extending the requirement to March 1, 2010. The American Moving and Storage Association (AMSA), which represents moving services and handlers of specialized freight, supported extending the requirement through 2011 in order to prevent a “gap” in the requirements, but did not offer a position on whether the requirement should be made permanent.

Two associations submitted comments supporting the permanent extension of the requirements, the Heavy Duty Brake Manufacturers Association (HDMA), which represents manufacturers of braking systems and components, and the Owner-Operator Independent Drivers Association (OOIDA).¹ Other commenters supporting a permanent extension of the external lamp requirement included Meritor WABCO, a supplier of air and hydraulic antilock brake systems (ABS), air disc brakes, air compressors, brake control valves and electronic components for medium and heavy duty trucks, buses, and trailers, and Advocates for Highway and Auto Safety (Advocates). CVSA, the petitioner, also submitted comments supporting a permanent extension.

¹ The OOIDA comment was submitted prior to NRPM in support of the CVSA petition.

NHTSA also received information from the University of Michigan Transportation Research Institute (UMTRI).

Whether at Least a Limited Extension Is Needed

Every commenter addressing the issue, with one exception, supported extending the external malfunction indicator lamp requirement to at least March 1, 2011. TTMA supported a shorter extension, to March 1, 2010, to coincide with the sunset date of the external lamp requirement in Canada. AMSA, making an argument for continuity of the requirement, stated that it supported the extension until 2011 because it would be extremely disruptive for carriers to cease current maintenance of external ABS indicators, and then be required to resume the current practices at a later date.

Several commenters provided data indicating that relatively large numbers of pre-2001 tractors are still in use, and that therefore there is still at least a temporary need for the trailer-mounted lamp. The HDMA provided information from R.L. Polk & Co. regarding vehicle age date, which stated that 58.5 percent of registered tractors were built prior to March 1, 2001.² Meritor WABCO also provided this figure in its comments. Information obtained from UMTRI, Center for National Truck and Bus Statistics, also provided information on the numbers of pre-2001 tractors in use. UMTRI analyzed two crash data files to estimate the proportion of tractors with model year 2000 and prior: (1) The General Estimates System (GES) file compiled by NHTSA, which is a nationally representative sample file of all police-reportable traffic crashes, and (2) the Trucks Involved in Fatal Accidents (TIFA) file, compiled by UMTRI, which is a census of all medium and heavy trucks involved in fatal crashes in the U.S. Based on accident analysis from the GES and the TIFA file, UMTRI estimated that 29-30 percent of the exposed population of tractors has a model year of 2000 or earlier.³ The “exposure” in crashes is primarily related to vehicle miles traveled.

² Docket NHTSA-2009-0038-0009, p. 2, available at http://www.regulations.gov.

³ Docket NHTSA-2009-0038-0017, p. 3, available at http://www.regulations.gov.

Whether the Requirement Should Be Made Permanent

We note that the decision whether to make the requirement for the external trailer lamp permanent presents different issues than a temporary extension. There are two potential reasons for a temporary extension. First, as discussed in the NPRM, an extension to March 1, 2011 would give the agency additional time to do further analyses related to CVSA's request for a permanent extension, while avoiding a potential confusing time gap in the vehicles subject to the requirement. Second, even if NHTSA did not make the existing requirement permanent, a further temporary extension could be needed given the relatively large numbers of pre-2001 tractors that are still in use. Since the numbers of pre-2001 tractors will over time become increasingly small, the case for a permanent requirement is predicated on the benefits that the external lamp provides even when coupled with the in-cab trailer ABS indicator present on tractors built after March 1, 2001.

A number of commenters which supported CVSA's petition to make the external lamp requirement permanent cited the utility of the external lamp for trailer inspection and diagnostic purposes. There were several reasons given in the comments, including benefits related to redundancy of the external lamp, the lamp serves to facilitate inspections and repair of trailer ABS, and the utility of the lamp in multiple trailer applications. Additionally, several commenters noted the centrality of a functioning ABS with regard to recent safety developments, such as electronic stability control (ESC) systems, that could be negatively impacted by faulty ABS.

One reason given to support the permanent extension of the external lamp is simple redundancy and utility of the external lamp, with Advocates noting that “if a combination vehicle * * * suffers loss of the in-cab ABS malfunction indicator, the only fail-safe means on the road of determining whether the ABS is still functioning is the external trailer, semi-trailer, or dolly ABS lamp.” ⁴ Similarly, OOIDA stated that the external lamp provides a “reliable and readily identifiable method for drivers, roadside inspectors, and maintenance personnel to determine the operational status of the affected towed units.” ⁵ CVSA commented on the multitude of possible vehicle systems dependent on functioning ABS, such as rollover stability systems, electronic stability control, and adaptive cruise control, as adding importance to the ability of various parties to identify malfunctioning ABS in trailers.

⁴ 0038-0013, p. 2.

⁵ Docket NHTSA-2009-0038-0019, available at http://www.regulations.gov.

In arguing against a permanent extension of the requirement, the ATA used the redundancy argument as well. ATA stated that it believes the extension for the ABS warning lamp is warranted so long as there are still tractors operating without functional in-cab systems. As to a permanent extension, however, it argued that the in-cab malfunction indicator lamp is a more useful warning signal to drivers than the external lamp, and that it does not believe the external trailer ABS malfunction lamp should be required on trailers matched with tractors with in-cab systems beyond 2011 solely as an aid for roadside inspection. ATA also stated that there are other tools to check the trailer ABS at a roadside inspection, if monitoring the in-cab dash warning lamp is not practical or safe for the inspector. Acknowledging that the external lamp did have some value, the ATA stated that some of its members wanted the light continued as an option, especially those who operate double and triple trailer combinations (discussed below).

Commenters including Meritor WABCO stated that the external lamp enhances the inspection and maintenance of ABS on trailers and dollies. Meritor WABCO pointed out a recent Federal Motor Carrier Safety Administration study indicating that 15 percent and 30 percent of tractor and trailer ABS, respectively, indicated potential operational problems,⁶ implying that additional means to identify and correct these problems should be considered. Meritor WABCO cited a NHTSA statement that the intent of the lamp was, in part, to “to inform operators * * * and to facilitate * * * and * * * encourage repairs of faulty ABS systems.” ⁷ Meritor WABCO also stated that when conducting diagnostics, the lack of a trailer-mounted indicator would require that a trailer be coupled to a post-2001 tractor in order to determine the status of the trailer ABS. Similarly, in its comments to the original 2007 CVSA petition, TTMA noted that “the lamp mounted externally allows additional people such as shop personnel to see if the ABS system is operable.” ⁸ CVSA reiterated this argument from its petition in its comments submitted to NHTSA. And even though it argued against making the lamp requirement permanent, in its comments, the ATA noted that the external lamp helped in troubleshooting problems.

⁶ Docket NHTSA-2009-0038-0008, p. 2, available at http://www.regulations.gov.

⁷ 71 FR 7614, Feb 13, 2006.

⁸ Docket NHTSA-2009-0038-0004, available at http://www.regulations.gov. We note that this comment was superseded by the comment submitted April 2, 2009 (Docket NHTSA-2009-0038-0016).

Several commenters emphasized that the external malfunction indicator lamp provides more pertinent information than the in-cab lamp with regard to multiple trailer configurations, where a single tractor tows two or three trailers, each equipped with an ABS. This is because while the in-cab lamp may indicate a malfunction, it will not provide specific information as to which trailer is experiencing a malfunctioning ABS. While it did not support making the requirement permanent, in its comment the ATA noted that members with multiple trailer operations found the external lamp useful for troubleshooting. Advocates and CVSA also made this argument, with Advocates stating that “on multi-trailer combinations when each trailer is fitted with ABS, a driver needs to be able to verify that each trailing unit has operable ABS.” ⁹

⁹ Docket NHTSA-2009-0038-0013, p. 2, available at http://www.regulations.gov.

Finally, Meritor WABCO provided some guidance in its comments with regard to the cost of the external lamp. Specifically, the commenter stated that “all trailer wiring harnesses have been modified to accommodate the indicator lamp so making it a permanent requirement would not require any additional changes of expense to the vehicle OEMs or the end user.” ¹⁰ Furthermore, the ATA comment stated that improvements in the external lamp circuit have eliminated previous maintenance issues that had caused expenses.¹¹

¹⁰ Docket NHTSA-2009-0038-0008, p. 1, available at http://www.regulations.gov.

¹¹ Docket NHTSA-2009-0038-0014, p. 2, available at http://www.regulations.gov.

III. Response to Comments and Agency Decision

After carefully considering the comments, and for the reasons discussed below, we have decided to make the requirement that trailers with ABS be equipped with an external antilock malfunction indicator lamp permanent.

We are making this decision because the external lamp provides information that assists maintenance personnel and roadside inspectors, provides important diagnostic information, and provides detailed important information for multiple trailer applications. NHTSA believes that these benefits of the external lamp warrant the permanent extension of the requirement.

We believe that trailer maintenance operations would be inconvenienced by having to couple a trailer to a post-2001 tractor or use additional specialized equipment in order to diagnose the state of a trailer's ABS, when right now a standardized trailer-mounted lamp provides the same information. This inconvenience could diminish the effectiveness of some maintenance operations. Furthermore, the external lamps provide otherwise-unavailable information to both drivers and roadside inspectors with regard to multiple trailer combinations. Without them, the in-cab information can only indicate the existence of a malfunctioning trailer ABS. The external lamps can pinpoint which trailer's ABS is malfunctioning, allowing drivers or inspectors to take the appropriate remedial action.

We note that since we are making the requirement permanent because of the benefits the external lamp provides even when coupled with the in-cab trailer ABS indicator present on tractors built after March 1, 2001, it is unnecessary to address the numbers of pre-2001 tractors that are still in use.

As indicated above, we stated in the NPRM that we might make the requirement permanent if we could fully resolve the outstanding issues. We have specifically considered whether there are any unresolved issues for which additional analysis would be beneficial to the agency in reaching a decision on this issue. We have concluded that there are no issues for which further analyses are needed prior to making a decision. All trailers manufactured after March 1, 1998 have already been required to comply with the requirement, so manufacturers and users are familiar with these systems. Furthermore, all trailer wiring harnesses have already been modified to accommodate the external lamp, and there are relatively few maintenance issues, thereby minimizing the costs of this requirement. Finally, Federal and State inspectors and maintenance operations successfully use the lamps as part of their current procedures in order to obtain the benefits discussed in this document.

In stating that we are making the existing requirement permanent, we do not mean to imply that we would not readdress this issue in future rulemaking if new developments were to make the requirement unnecessary. In its comments, ATA stated that in the future, wireless transmissions of the vehicle fault messages will be the means of inspection which will make external malfunction lamps obsolete. Our decision today reflects current designs and inspection and maintenance practices developed in light of those designs. If future designs and new inspection and maintenance practices should make the external malfunction lamps obsolete, we will take appropriate action at that time.

We find good cause for making today's final rule effective on August 31, 2009. This is necessary to avoid a confusing time gap in the vehicles subject to the requirement. Moreover, since trailer manufacturers are required to meet the requirement for the trailers they are currently manufacturing, this effective date will not result in any new burdens.

IV. Rulemaking Analyses and Notices

Executive Order 12866 and DOT Regulatory Policies and Procedures

This action was not reviewed by the Office of Management and Budget under E.O. 12866. The agency has considered the impact of this action under the Department of Transportation's regulatory policies and procedures (44 FR 11034; February 26, 1979), and has determined that it is not “significant” under them.

This document makes permanent the existing antilock malfunction indicator lamp requirement, which had been scheduled to expire September 1, 2009. When the agency published its March 10, 1995 Final Rule, we estimated the costs of the lamp and the associated wiring to be approximately $9.43 (in 2007 dollars $12.82). In 2007 dollars, assuming 189,000 trailer units and that same unit costs we estimate the total cost to be approximately $2.4 million per year. However, we note that since all trailers manufactured after March 1, 1998 have already been complying with the requirement and that the agency is merely making permanent the requirement, the impact on costs is likely much lower than this figure indicates. While not supplying a lamp could result in a trailer that could be made for a few dollars less, we estimate the costs to be so minimal that preparation of a full regulatory evaluation is not required.

Regulatory Flexibility Act

Pursuant to the Regulatory Flexibility Act, 5 U.S.C. 601 et seq., NHTSA has evaluated the effects of this action on small entities. I hereby certify that this rule will not have a significant impact on a substantial number of small entities. This document merely makes permanent the requirement for an external indicator lamp in FMVSS No. 121. No other changes are made. Small organizations and small government units will not be significantly affected since this action will not affect the price of new motor vehicles. Trailer manufacturers will not be required to install new systems but rather continue to install the systems they are already installing.

Executive Order 13132 (Federalism)

NHTSA has examined today's rule pursuant to Executive Order 13132 (64 FR 43255, August 10, 1999) and concluded that no additional consultation with States, local governments or their representatives is mandated beyond the rulemaking process. The agency has concluded that the rule does not have federalism implications because it does not have “substantial direct effects on the States, on the relationship between the national government and the States, or on the distribution of power and responsibilities among the various levels of government.”

Further, no consultation is needed to discuss the issue of preemption in connection with today's rule. The issue of preemption can arise in connection with NHTSA rules in at least two ways. First, the National Traffic and Motor Vehicle Safety Act contains an express preemption provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that unavoidably preempts State legislative and administrative law, not today's rulemaking, so consultation would be unnecessary.

Second, the Supreme Court has recognized the possibility of implied preemption: in some instances, State requirements imposed on motor vehicle manufacturers, including sanctions imposed by State tort law, can stand as an obstacle to the accomplishment and execution of a NHTSA safety standard. When such a conflict is discerned, the Supremacy Clause of the Constitution makes the State requirements unenforceable. See Geier v. American Honda Motor Co., 529 U.S. 861 (2000). However, NHTSA has considered the nature and purpose of today's rule and does not currently foresee any potential State requirements that might conflict with it. Without any conflict, there could not be any implied preemption.

Executive Order 12988 (Civil Justice Reform)

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows. The issue of preemption is discussed above in connection with E.O. 13132. NHTSA notes further that there is no requirement that individuals submit a petition for reconsideration or pursue other administrative proceeding before they may file suit in court.

Protection of Children From Environmental Health and Safety Risks

Executive Order 13045, “Protection of Children from Environmental Health and Safety Risks” (62 FR 19855, April 23, 1997), applies to any rule that: (1) Is determined to be “economically significant” as defined under Executive Order 12866, and (2) concerns an environmental, health, or safety risk that the agency has reason to believe may have a disproportionate effect on children. If the regulatory action meets both criteria, the agency must evaluate the environmental health or safety effects of the planned rule on children, and explain why the planned regulation is preferable to other potentially effective and reasonably feasible alternatives considered by the agency.

This rule is not expected to affect children and it is not an economically significant regulatory action under Executive Order 12866. Consequently, no further analysis is required under Executive Order 13045.

Paperwork Reduction Act

Under the Paperwork Reduction Act of 1995 (PRA), a person is not required to respond to a collection of information by a Federal agency unless the collection displays a valid OMB control number. There is not any information collection requirement associated with this rule.

National Technology Transfer and Advancement Act

Section 12(d) of the National Technology Transfer and Advancement Act of 1995 (NTTAA), Public Law 104-113, (15 U.S.C. 272) directs the agency to evaluate and use voluntary consensus standards in its regulatory activities unless doing so would be inconsistent with applicable law or is otherwise impractical. Voluntary consensus standards are technical standards (e.g., materials specifications, test methods, sampling procedures, and business practices) that are developed or adopted by voluntary consensus standards bodies, such as the Society of Automotive Engineers. The NTTAA directs us to provide Congress (through OMB) with explanations when we decide not to use available and applicable voluntary consensus standards. There are no voluntary consensus standards developed by voluntary consensus standards bodies pertaining to this rule.

Unfunded Mandates Reform Act

The Unfunded Mandates Reform Act of 1995 requires agencies to prepare a written assessment of the costs, benefits and other effects of proposed or final rules that include a Federal mandate likely to result in the expenditure by State, local or Tribal governments, in the aggregate, or by the private sector, of more than $100 million annually (adjusted for inflation with base year of 1995). This rule will not result in expenditures by State, local or Tribal governments, in the aggregate, or by the private sector in excess of $100 million annually.

National Environmental Policy Act

NHTSA has analyzed this rulemaking action for the purposes of the National Environmental Policy Act. The agency has determined that implementation of this action will not have any significant impact on the quality of the human environment.

Executive Order 13211

Executive Order 13211 (66 FR 28355, May 18, 2001) applies to any rulemaking that: (1) Is determined to be economically significant as defined under E.O. 12866, and is likely to have a significantly adverse effect on the supply of, distribution of, or use of energy; or (2) that is designated by the Administrator of the Office of Information and Regulatory Affairs as a significant energy action. This rulemaking is not subject to E.O. 13211.

Regulatory Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

List of Subjects in 49 CFR Part 571

Imports, Motor vehicle safety, Motor vehicles, and Tires.

In consideration of the foregoing, NHTSA is amending 49 CFR part 571 as set forth below.

PART 571—FEDERAL MOTOR VEHICLE SAFETY STANDARDS

1. The authority citation for part 571 continues to read as follows:

Authority: 49 U.S.C. 322, 30111, 30115, 30117 and 30166; delegation of authority at 49 CFR 1.50.

2. Section 571.121 is amended by revising S5.2.3.3(a) to read as follows:

§ 571.121; Standard No. 121; Air brake systems.

* * * * *

S5.2.3.3 Antilock malfunction indicator.

(a) In addition to the requirements of S5.2.3.2, each trailer and trailer converter dolly shall be equipped with an external antilock malfunction indicator lamp that meets the requirements of S5.2.3.3 (b) through (d).

* * * * *

Issued: August 19, 2009.
Ronald L. Medford,
Acting Deputy Administrator.

[FR Doc. E9-20387 Filed 8-24-09; 8:45 am]

BILLING CODE 4910-59-P